NATIONAL SCIENCE FOUNDATION

Notice of Intent To Seek Approval To Renew an Information Collection

AGENCY: National Science Foundation.

ACTION: Notice and request for comments.

SUMMARY: The National Science Foundation (NSF) is announcing plans to request clearance of this collection. In accordance with the requirements of of the Paperwork Reduction Act of 1995, we are providing opportunity for public comment on this action. After obtaining and considering public comment, NSF will prepare the submission requesting that OMB approve clearance of this collection for no longer than three years.

DATES: Written comments on this notice must be received by January 6, 2017 to be assured of consideration. Comments received after that date will be considered to the extent practicable.

FOR ADDITIONAL INFORMATION OR COMMENTS: Contact Suzanne H. Plimpton, Reports Clearance Officer, National Science Foundation, 4201 Wilson Boulevard, Room 1265, Arlington, Virginia 22230; telephone (703) 292-7556; or send email to splimpto@nsf.gov. Individuals who use a telecommunications device for the deaf (TDD) may call the Federal Information Relay Service (FIRS) at 1-800-877-8339, which is accessible 24 hours a day, 7 days a week, 365 days a year (including federal holidays). You also may obtain a copy of the data collection instrument and instructions from Ms. Plimpton.

SUPPLEMENTARY INFORMATION:

Title of Collection: Grantee Reporting Requirements for the Industry University Cooperative Research Centers Program (I/UCRC).

OMB Number: 3145-0088.

Expiration Date of Approval: March 31, 2017.

Type of Request: Intent to seek approval to renew an information collection.

Abstract: The Industry/University Cooperative Research Centers (I/UCRC) Program was initiated in 1973 to develop long-term partnerships among industry, academe and government. The National Science Foundation (NSF) invests in these partnerships to promote research programs of mutual interest, contribute to the Nation's research infrastructure base, enhance the intellectual capacity of the engineering or science workforce through the integration of research and education, and facilitate technology transfer. As appropriate, NSF encourages international collaborations that advance these goals within the global context.

The I/UCRC program seeks to achieve these goals by:

• Contributing to the nation's research enterprise by developing long-term partnerships among industry, academe, and government;

• Leveraging NSF funds with industry to support graduate students performing industrially relevant pre-competitive research;

• Expanding the innovation capacity of our nation's competitive workforce through partnerships between industries and universities; and

• Encouraging the nation's research enterprise to remain competitive through active engagement with academic and industrial leaders throughout the world.

To meet national needs, multi-university I/UCRCs are preferred to single-university I/UCRCs because multi-university Centers contribute to an increased research base as well as to increased interaction among Center participants. The Centers are catalyzed by an investment from NSF with primary support derived from the private and public sector. NSF takes a supporting role in the development and evolution of the I/UCRC, providing a framework for membership and operations as well as requirements derived from extensive Center experience and evaluation.

NSF invests in nationwide Centers that do not overlap in research foci with existing I/UCRCs. PIs should review the I/UCRC Center Directory found on the Program's Web page http://www.nsf.gov/eng/iip/iucrc/ of potential overlaps prior to proposing a new Center. In the event of a potential overlap, the PIs should consider joining the already existing I/UCRC. The I/UCRC program initially offers five-year (Phase I) continuing awards. This initial five-year period of support allows for the development of a strong partnership between the academic researchers and interested industrial and government parties. A significant proportion of the Center's support for research projects is expected to come from industrial, state, and other funds. As a Center progresses, it is likely to have increased opportunities for funding from additional firms, other federal agencies and laboratories, and state and local governments; thus, increasing the leverage of NSF funds. After five years, Sites within Centers that continue to meet the I/UCRC Program requirements may request support for a second five-year (Phase II) period. Phase II grants allow Centers to continue to grow, and to leverage and diversify their memberships and research portfolio during their Phase II period. After ten years, Sites within Centers may apply for a third five-year (Phase III) period. Phase III awards are provided for Centers that demonstrate significant impact on industry research as measured through robust and sustained membership, student impact, annual reports, Site visits, and adherence to I/UCRC requirements. Centers are expected to be fully supported by private and public partners after fifteen years as an I/UCRC.

Centers will be required to provide data to NSF and its authorized representatives (contractors or grantees). These data will be used for NSF internal reports, historical data, and for securing future funding for continued I/UCRC program maintenance and growth. Updates to the IUCRC database of performance indicators will be required annually. Centers will be responsible for submitting the following information after the award expires for their fiscal year of activity. The indicators are both quantitative and descriptive.

• Quantitative information from the most recently completed fiscal year such as:

○ Number and diversity (race, gender, US, non-US) of students, faculty, and industrial numbers involved in the center

○ Students contact information

○ Degrees granted to students involved in center activities

○ Employer information of graduated students involved in center research activities (members and non-members) traceable by students' demographic information

○ Amounts and sources of income to the center, and

○ Lists of patents, licenses, and publications created

○ List of affiliated institutions/faculty (not official Sites in or faculty of the Center)

• Operating budget and total funding:

○ Total funding

○ NSF I/UCRC funding received

○ Other NSF funding received

○ Additional support broken down by Industry, State, University, Other Federal, Non-Federal and other support

○ Any contract income from IAB members that is done outside the IUCRC, but that is within the scope of the Center's topic

• Capital and in-kind support:

○ Equipment

○ Facilities

○ Personnel

○ Software

○ Other support

• Human resources:

○ Researchers (number of faculty scientists and engineers, number of non-faculty scientists and engineers)

○ Students (number of graduates, number of undergraduates)

○ Number of Postdoctoral fellows

○ Administration, number of full and part time professional and clerical staff

○ Information about broadening participation on the above with plans to increase broadening participation, if necessary

○ Industry Advisory Board members information (total number, number of new and leaving members by year, company size by number of employees and sector/sub-sector)

• Center director descriptors:

○ Position and rank of director

○ Status of tenure

○ Estimate of the percent of time the director devotes to center administration, other administration, research, teaching, other

• Center outcomes:

○ Students receiving degrees and type degree earned

○ Students hired by industry (member and non-member) by type of degree

○ Publications

Number with center research

Number with Industrial Advisory Board Members

Number of presentations at professional society meetings

Number of presentations/booths at trade shows

Number of presentations under different categories (symposia, etc) related to center activities

• Intellectual property events:

○ Invention disclosures

○ Patent applications

○ Software copyrights

○ Patents granted and derived or both

○ Licensing agreements

○ Royalties realized

I/UCRCs will also include evaluation conducted by independent assessment coordinator who cannot be from the department(s) with the institution(s) receiving funding for the I/UCRC award. The center assessment coordinator will be responsible for:

○ Preparing an annual report of center activities with respect to industrial collaboration

○ Conducting a survey of all center participants to probe the participant satisfaction with center activities

○ Compiling a set of quantitative indicators determined by NSF to analyze the management and operation of the center

○ Participating in I/UCRC center and informational meetings

○ Reporting to NSF on the center's status using a checklist provided by NSF to help determine if the center is adhering to the IUCRC policy and guidelines

○ Bi-annual reporting to NSF

○ Performing exit interviews to determine why members chose to withdraw from the center

○ Participating in continuous quality process improvement by providing information to the NSF I/UCRC program

Use of the Information: The data collected will be used for NSF internal reports, historical data, and for securing future funding for continued I/UCRC program maintenance and growth and maintenance of an alumni network of center participants.

Estimate of Burden: 150 hours per center (201 sites) for seventy centers for a total of 10,500 hours, subject to change in a near future as NSF is revising impact indicators, metrics and data collected, and a mechanism to collect them.

Respondents: Industry, academic institutions; non-profit institutions; government.

Estimated Number of Responses per Report: One from each of the 201 sites.

Comments: Comments are invited on (a) whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information on those who are to respond, including through the use of appropriate automated, electronic, mechanical, or other technological collection techniques or other forms of information technology.

Dated: November 2, 2016.
Suzanne H. Plimpton,
Reports Clearance Officer, National Science Foundation.

[FR Doc. 2016-26818 Filed 11-4-16; 8:45 am]

BILLING CODE 7555-01-P